FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 25, 2014.

A. Federal Reserve Bank of Atlanta (Chapelle Davis, Assistant Vice President) 1000 Peachtree Street NE., Atlanta, Georgia 30309:

1. Trevor R. Burgess, St. Petersburg, Florida, Marcio Camargo, São Paulo, Brazil, Marcelo Lima, São Paulo, Brazil, Erwin Russel, São Paulo, Brazil, CBM Holdings Qualified Family, L.P. Toronto, Ontario, Canada, the General Partner of which is Marcelo Lima, and Amazonite Family Limited Partnership, Ontario, Canada, the General Partner of which is Erwin Russel, and the Amazonite Family Limited Partnership; to acquire shares of C1 Financial, Inc., and its subsidiary bank, C1 Bank, both of St. Petersburg, Florida.

B. Federal Reserve Bank of Chicago (Colette A. Fried, Assistant Vice President) 230 South LaSalle Street, Chicago, Illinois 60690-1414:

1. Robert W. Breisch, Sr., individually and as co-trustee of the Breisch Living

Trust, Phyllis A. Breisch, individually, and as co-trustee of the Breisch Living Trust, The Breisch Living Trust, Thomas R. Bartholet, Robert W. Breisch, Jr., Carla Breisch, Gabrielle L. Breisch, Michael C. Breisch, Brittany C. Breisch, Christina M. Breisch-Harty, Timothy J. Harty, Timothy J. Harty, Jr., Jonathon W. Harty, Kimberly A. Breisch-Rodosky, William J. Rodosky, Jr., Madelynne M. Rodosky; to acquire shares of First Mazon Bancorp, Inc., Mazon, Illinois and thereby indirectly acquire control Mazon State Bank, Mazon, Illinois.

C. Federal Reserve Bank of Minneapolis (Jacqueline K. Brunmeier, Assistant Vice President) 90 Hennepin Avenue, Minneapolis, Minnesota 55480-0291:

1. Robb B. Kahl, Monona, Wisconsin, Trustee for the Ardath K. Solsrud 2012 Irrevocable Trust dated December 28, 2012; Glenn A. Solsrud 2012 Irrevocable Trust dated December 28, 2012; and Ardath K. Solsrud Revocable Trust Concerning Caprice Corporation, all of Monona, Wisconsin; each Trust proposes to acquire 25 percent or more of the voting shares of Caprice Corporation, Augusta, Wisconsin, and thereby acquire shares of Unity Bank North, Red Lake Falls, Minnesota. These three trusts to each join and Corinne Esther Solsrud, Mosinee, Wisconsin; Rachel Ann Solsrud Goodell, Augusta, Wisconsin; Gregory Arthur Solsrud, Dunwoody, Georgia; and Brian Kenneth Solsrud, North Oaks, Minnesota; to retain shares as part of the Kahl/Solsrud shareholder group acting in concert.

2. Robb B. Kahl, Monona, Wisconsin, Trustee for the Ardath K. Solsrud 2012 Irrevocable Trust dated December 28, 2012; Glenn A. Solsrud 2012 Irrevocable Trust dated December 28, 2012; and Ardath K. Solsrud Revocable Trust Concerning Augusta Financial Corporation, all of Monona, Wisconsin; each Trust proposes to acquire 25 percent or more of the voting shares of Augusta Financial Corporation, Augusta, Wisconsin, and thereby acquire shares of Unity Bank, Augusta, Wisconsin. These three trusts to each join and Corinne Esther Solsrud, Mosinee, Wisconsin; Rachel Ann Solsrud Goodell, Augusta, Wisconsin; Gregory Arthur Solsrud, Dunwoody, Georgia; and Brian Kenneth Solsrud, North Oaks, Minnesota; to retain shares as part of the Kahl/Solsrud shareholder group acting in concert, which controls Company and indirectly controls Bank.

Board of Governors of the Federal Reserve System, August 7, 2014.
Michael J. Lewandowski,
Assistant Secretary of the Board.

[FR Doc. 2014-19075 Filed 8-12-14; 8:45 am]

BILLING CODE 6210-01-P